DEPARTMENT OF COMMERCE

International Trade Administration

NATO International Competitive Bidding (ICB) Bidders List Application

ACTION: Proposed collection; comment request.

SUMMARY: The Department of Commerce, as part of its continuing effort to reduce paperwork and respondent burden, invites the general public and other Federal agencies to take this opportunity to comment on the continuing information collections, as required by the Paperwork Reduction Act of 1995, Public Law 104-13 (44 U.S.C. 3506 (c)(2)(A)).

DATES: Written comments must be submitted on or before June 4, 2001.

ADDRESSES: Direct all written comments to Madeleine Clayton, Departmental Paperwork Clearance Officer, (202) 482-3129, Email Mclayton@doc.gov., Department of Commerce, Room 6086, 14th & Constitution Avenue, NW., Washington, DC 20230.

FOR FURTHER INFORMATION CONTACT: Requests for additional information or copies of the information collection instrument and instructions should be directed to: Alexis Kemper, Office of Telecommunications Technologies, Room 4323, Department of Commerce, 14th & Constitution Avenue, NW., Washington, DC 20230; Phone number: (202) 482-1512, and fax number: (202) 482-5834.

SUPPLEMENTARY INFORMATION:

I. Abstract

Opportunities to bid for contracts under the NATO Security Investment Program (NSIP) are only open to firms of member NATO countries. NSIP procedures for international competitive bidding (AC/4-D/2261) require that each NATO country certify that their respective firms are eligible to bid such contracts. This is done through the issuance of a “Declaration of Eligibility.” The U.S. Department of Commerce/ITA is the executive agency responsible for certifying U.S. firms. ITA-4023P is the application form used by USDOC/ITA to collect information needed to ascertain the eligibility of a U.S. firm. ITA reviews the application for completeness and accuracy and determines a company's eligibility based on its financial viability, technical capability, and security clearances with the Department of Defense.

II. Method of Collection

The Department of Commerce distributes Form ITA-4023P to potential applicants upon request. The applicant completes the form and then forwards it to the U.S. Department of Commerce/Office of Telecommunications Technologies for processing.

III. Data

OMB Number: 0625-0055.

Form Number: ITA-4023P.

Type of Review: Regular submission.

Affected Public: Business or other for-profit.

Estimated Number of Respondents: 60.

Estimated Time per Response: 1 hour.

Estimated Total Annual Burden Hours: 60 hours.

Estimated Total Annual Cost: $1000.

IV. Requested for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 30, 2001.
Madeleine Clayton,
Departmental Paperwork Clearance Officer, Office of the Chief Information Officer.

[FR Doc. 01-8266 Filed 4-3-01; 8:45 am]

BILLING CODE 3510-DR-P